DEPARTMENT OF HEALTH AND HUMAN SERVICES

Centers for Disease Control and Prevention

[30-Day-11-0765]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Fellowship Management System, (OMB No. 0920-0765 exp. 2/28/2011),—Revision—Scientific Education and Professional Development Program Office (SEPDPO), Office of Surveillance, Epidemiology and Laboratory Services (OSELS), Centers for Disease Control and Prevention (CDC).

Background and Brief Description

SEPDPO requests an additional three years to continue CDC's use of the online Fellowship Management System (FMS), and a revision to include two additional CDC fellowship applications and ten additional CDC fellowship directories. FMS allows applicants to apply to fellowships online and tracks fellowship applicants and alumni in one integrated database.

FMS provides an efficient and effective way for processing application data, selecting qualified candidates, maintaining a current alumni database, documenting the impact of the fellowships on alumni's careers, and generating reports. FMS reduces duplicate applicant records as well as agency resources to administer and process paper records. The application process includes the following: Submission of responses to the questions in the online application; submission of academic transcripts and letters of recommendation; a review by selected programmatic staff and panel member experts; selection of qualified candidates for interview; interview of candidates; and selection of trainees for the fellowship programs.

The online application questions ask for academic history, professional experience, names of references, and description of professional goals. The application questions and data collected are necessary to the application process to determine programmatic eligibility and to ensure that the most highly qualified candidates are chosen for the training programs.

The alumni directory will allow CDC to maintain a current, centralized electronic database. Questions include updates to include email and other contact information, professional responsibilities, medical certifications, qualifications, and scientific skills in the event that it becomes necessary to contact alumni possessing mission-critical skills to meet a national public health emergency or an urgent public health need. Alumni data will also be used by CDC to document the impact of the fellowships on the career paths of participants, and thus, on the science and practice of public health, and by the alumni for maintaining their professional networks for finding jobs, staffing jobs, collaborating, and interacting with their fellow alumni.

Alumni will have two options for the level of information they wish to be visible to other alumni of their fellowship. They will have the option of displaying only their name, fellowship year, and professional information or all of their information. The default is to display only their name, fellowship year, and professional information. This information is already in the public domain.

The annual burden table has been updated to reflect an increase in the number of fellowships participating in FMS.

The estimated annualized burden for all nine fellowship applications is 748 hours (1,122 respondents × 40 minutes for completing the application), and the estimated annualized burden for all twelve directories is 114 hours (454 respondents × 15 minutes for updating their information). Note: Some alumni are deceased or cannot be located. Response burden assumes response from an individual responding alumnus, on average, every 3 years (which is likely an overestimate of frequency). There is no cost to respondents other than their time. The total estimated annualized burden hours are 862.

Estimated Annualized Burden Hours
Type of respondents | Number of respondents | Frequency of Response | Average annualized burden per response (in hours)
Fellowship applicants | 1122 | 1 | 40/60
Fellowship alumni | 454 | 1 | 15/60

Dated: December 9, 2010.
Carol E. Walker,
CDC Reports Clearance Officer, Centers for Disease Control and Prevention.

[FR Doc. 2010-31672 Filed 12-16-10; 8:45 am]

BILLING CODE 4163-18-P